ENVIRONMENTAL PROTECTION AGENCY

[FRL-7876-5]

State Innovation Grant Program, Notice of Availability of Solicitation for Proposals for 2005/2006 Awards

AGENCY: Environmental Protection Agency (EPA).

ACTION: Notice.

SUMMARY: The Environmental Protection Agency, National Center for Environmental Innovation (NCEI) is giving notice of the availability of its solicitation for proposals for the 2005/2006 grant program to support innovation by state environmental regulatory agencies—the “State Innovation Grant Program.” The full text of the solicitation includes the following:

• Background information on the State Innovation Grant Program, including prior awards;

• A description of the 2005-2006 program;

• The process for preparing and submitting proposals;

• The State Innovation Grant Program selection criteria;

• A description of the selection and award process;

• A pre-proposal checklist to help States prepare effective proposals;

• A list of definitions for purposes of this solicitation.

The solicitation is available at the Agency's State Innovation Grant Web site: http://www.epa.gov/innovation/stategrants/solicitation2005.pdf, or may be requested from the Agency by e-mail, telephone, or by mail. Only the principal environmental regulatory agency within each State (generally, where delegated authorities for Federal environmental regulations exist) is eligible to receive these grants.

DATES: State environmental regulatory agencies will have 60 days until April 25, 2005, to respond with a pre-proposal, budget, and project summary. The environmental regulatory agencies from the fifty (50) States; Washington, DC, and four (4) territories were notified of the solicitation's availability by fax and e-mail transmittals on February 24, 2005.

ADDRESSES: Copies of the Solicitation can be downloaded from the Agency's Web site at: http://www.epa.gov/innovation/stategrants or may be requested by telephone ((202) 566-2186), or by e-mail (Innovation_State_Grants@epa.gov). Proposals submitted in response to this solicitation, or questions concerning the solicitation should be sent to: State Innovation Grant Program, Office of Policy, Economics and Innovation, U.S. Environmental Protection Agency (1807T), 1200 Pennsylvania Avenue, NW., Washington, DC 20460.

Proposal responses or questions may also be sent by fax to ((202) 566-2220), addressed to the “State Innovation Grant Program,” or by e-mail to: Innovation_State_Grants@epa.gov. We encourage e-mail responses. If you have questions about responding to this notice, please contact EPA at this e-mail address or fax number, or you may call Sherri Walker at (202) 566-2186. EPA will acknowledge all responses it receives to this notice.

SUPPLEMENTARY INFORMATION: Background: In April 2002, EPA issued its plan for future innovation efforts, published as Innovating for Better Environmental Results: A Strategy to Guide the Next Generation of Innovation at EPA (EPA 100-R-02-002; http://www.epa.gov/opei/strategy). In Fall of 2002, EPA initiated the State Innovation Grants Program with a competition that asked for State project proposals that would create innovation in environmental permitting programs related to one of the Strategy's four priority environmental issues: reducing greenhouse gases, reducing smog, improving water quality, and ensuring the long-term integrity of the nations's water infrastructure. This assistance agreement program strengthens EPA's partnership with the States by assisting State innovation that supports the Strategy. EPA would like to help States build on previous experience and undertake strategic innovation projects that promote larger-scale models for “next generation” environmental protection and promise better environmental results. EPA is interested in funding projects that go beyond a single facility experiment to promote change that is “systems-oriented” and provides better results from a program, process, or sector-wide innovation. EPA is particularly interested in innovation that promotes integrated (cross-media) environmental management with high potential for transfer to other States. Following the pilot round of State Innovation Grants in 2002, EPA consulted with the States through the Environmental Council of the States (ECOS) and through a comment period announced in the Federal Register (FRL 7510-7, June 11, 2003) (see http://www.epa.gov/innovation/stategrants). EPA received support in comments from a large number of the responding States for maintaining innovation in permitting as a subject of the next solicitation in order to build and sustain a stable resource base for testing new ideas that can improve this critical core function. Within this topic there was considerable support for EPA assistance to help States explore the relationship between Environmental Management Systems (EMS) and permitting (see: http://www.epa.gov/ems/) and to support adoption of the Environmental Results Program (ERP) model (see: http://www.epa.gov/ooaujeag/permits/masserp.htm). Additionally, in October 2004 EPA through a subsequent Federal Register notice (FRL 7827-4, October 13, 2004) asked states to provide additional input on topic areas for this solicitation. EPA received continued support for maintaining innovation in permitting as a subject of the next solicitation. During the months of October and November 2004, EPA held a series of six informational calls for the states. The purpose of the conference calls was to offer a streamlined proposal development workshop to all States prior to publication of our solicitation, and to answer any questions that the States may have prior to the competition, in keeping with Federal requirements that we afford assistance fairly in a competition process. Through this effort, our primary focus was to encourage individual States (and/or State-led teams) to submit well-developed pre-proposals that effectively describe how their project would achieve measurable environmental results. Questions and answers from these six calls are posted at the program Web site at http://www.epa.gov/innovation/stategrants.

Sixteen projects that received awards in prior competitions included: seven Environmental Results Program (ERP) models, six Environmental Management Systems (EMS) projects, two Watershed-Based Permitting projects, and one Enhanced Permitting Through Application of Innovative Information Technology (IT) Systems. For more information on the prior solicitations and awards, please see the EPA State Innovation Grants Web site at: http://www.epa.gov/innovation/stategrants.

Dated: February 17, 2005.
Elizabeth Shaw,
Director, Office of Environmental Policy Innovation.

[FR Doc. 05-3529 Filed 2-23-05; 8:45 am]

BILLING CODE 6560-50-P